DEPARTMENT OF COMMERCE

International Trade Administration

[C-533-890, C-489-838]

Quartz Surface Products From India and the Republic of Türkiye: Final Results of the Expedited First Sunset Reviews of the Countervailing Duty Orders

AGENCY: Enforcement and Compliance, International Trade Administration, Department of Commerce.

SUMMARY: The U.S. Department of Commerce (Commerce) finds that revocation of the countervailing duty (CVD) orders on quartz surface products from India and the Republic of Türkiye (Türkiye) would be likely to lead to continuation or recurrence of countervailable subsidies at the levels indicated in the “Final Results of Sunset Reviews” section of this notice.

DATES: Applicable August 19, 2025.

FOR FURTHER INFORMATION CONTACT: Julie Al-Saadawi, Trade Agreements Policy and Negotiations, Enforcement and Compliance, International Trade Administration, U.S. Department of Commerce, 1401 Constitution Avenue NW, Washington, DC 20230; telephone: 202-482-1930.

SUPPLEMENTARY INFORMATION:

Background

On June 22, 2020, the U.S. Department of Commerce (Commerce) published the Orders on quartz surface products from India and Türkiye.¹ On May 1, 2025, Commerce published the notice of initiation of the first sunset review of the Orders, pursuant to section 751(c) of the Act and 19 CFR 351.218(c).²

¹ See Certain Quartz Surface Products from India and the Republic of Turkey: Countervailing Duty Orders, 85 FR 37431 (June 22, 2020) (India Order and Türkiye Order; collectively, Orders).

² See Initiation of Five-Year (Sunset) Reviews, 90 FR 18642 (May 1, 2025).

On May 13, 2025, Commerce received a notice of intent to participate in this review from Cambria Company LLC, Dal-Tile LLC, and Guidoni USA (the domestic interested parties), within the deadline specified in 19 CFR 351.218(d)(1)(i).³ The domestic interested parties claim interested party status within the meaning of section 771(9)(C) of the Act and 19 CFR 351.102(b)(29)(v) as a domestic producer of the domestic like-product.⁴

³ See Domestic Interested Parties' Letter, “Notice of Intent to Participate in the First Five-Year Review of the Countervailing Duty Order on Quartz Surface Products from India,” dated May 13, 2025; and Domestic Interested Parties' Letter, “Notice of Intent to Participate in the First Five-Year Review of the Countervailing Duty Order on Quartz Surface Products from the Republic of Turkey,” dated May 13, 2025.

⁴ Id.

On June 2, 2025, Commerce received an adequate substantive response from the domestic interested parties, within the 30-day deadline specified in 19 CFR 351.218(d)(3)(i).⁵ Commerce did not receive a substantive response from either the Governments of Türkiye or India or a respondent interested party to this proceeding. On June 20, 2025, Commerce notified the U.S. International Trade Commission (ITC) that it did not receive an adequate substantive response from respondent interested parties.⁶ As a result, Commerce conducted an expedited (120-day) sunset review of the Order, pursuant to section 751(c)(3)(B) of the Act and 19 CFR 351.218(e)(1)(ii)(B)(2) and (C)(2).

⁵ See Domestic Interested Parties' Letter, “First Five-Year (“Sunset”) Review of the Countervailing Duty Order on Quartz Surface Products from India: Domestic Interested Parties' Substantive Response,” dated June 2, 2025; and Domestic Interested Parties' Letter, “First Five-Year (“Sunset”) Review of the Countervailing Duty Order on Quartz Surface Products from the Republic of Turkey: Domestic Interested Parties' Substantive Response,” dated June 2, 2025.

⁶ See Commerce's Letter, “Sunset Reviews Initiated on May 1, 2025,” dated June 20, 2025.

Scope of the Orders

The product covered by these Orders is quartz surface products from India and Türkiye. For the full description of the scope of the Orders, see the Issues and Decisions Memorandum.⁷

⁷ See Memorandum, “Issues and Decision Memorandum for the Final Results of the Expedited First Sunset Reviews of the Countervailing Duty Orders on Quartz Surface Products from India and the Republic of Turkey,” dated concurrently with, and hereby adopted by, this notice.

Analysis of Comments Received

A complete discussion of all issues raised in these sunset reviews, including the likelihood of continuation or recurrence of subsidization and the countervailable subsidy rates likely to prevail if the Orders were to be revoked, is contained in the accompanying Issues and Decision Memorandum.⁸ A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, complete versions of the Issues and Decision Memorandum can be accessed directly at https://access.trade.gov/public/FRNoticesListLayout.aspx.

⁸ Id.

Final Results of Sunset Reviews

Pursuant to sections 751(c) and 752(b) of the Act, Commerce determines that revocation of the India Order would be likely to lead to continuation or recurrence of countervailable subsidies at the following net countervailable subsidy rates:

Producers/exporters | Net countervailable subsidy rate (percent ad valorem)
Antique Marbonite Private Limited | 1.57
Pokarna Engineered Stone Limited | 2.34
All Others | 2.17

Pursuant to sections 751(c) and 752(b) of the Act, Commerce determines that revocation of the Türkiye Order would be likely to lead to continuation or recurrence of countervailable subsidies at the following net countervailable subsidy rates:

Producers/exporters | Net countervailable subsidy rate (percent ad valorem)
Belenco Diş Ticaret A.Ş. and Peker Yüzey Tasarıları Sanayi ve Tic A.Ş | 2.43
All Others | 2.43

Notification Regarding Administrative Protective Order (APO)

This notice also serves as the only reminder to parties subject to an APO of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(b), and 777(i)(1) of the Act, and 19 CFR 351.221(c)(5)(ii).

Dated: August 14, 2025.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of a Countervailable Subsidy

2. Net Countervailable Subsidy Rates Likely to Prevail

3. Nature of the Subsidies

VII. Final Results of Sunset Reviews

VIII. Recommendation

[FR Doc. 2025-15784 Filed 8-18-25; 8:45 am]

BILLING CODE 3510-DS-P